DEPARTMENT OF HEALTH AND HUMAN SERVICES

Centers for Disease Control and Prevention

[Program Announcement 02191]

Expansion of HIV/AIDS/TB Care and Prevention Activities Among People With HIV/AIDS in the Republic of Uganda; Notice of Availability of Funds; Amendment

A notice announcing the availability of Fiscal Year 2002 funds for cooperative agreements for the Expansion of HIV/AIDS/TB Care and Prevention Activities Among People with HIV/AIDS in the Republic of Uganda was published in the Federal Register, June 20, 2002, Volume 67, No. 119, pages 42006-42007. The notice is amended as follows: On page 42006, Column 3, Paragraph “I. Submission and Deadline”, remove “July 17, 2002” and insert in its place “August 9, 2002”.

Dated: July 24, 2002.
Rebecca B. O'Kelley,
Acting Director, Procurement and Grants Office, Centers for Disease Control and Prevention.

[FR Doc. 02-19161 Filed 7-29-02; 8:45 am]

BILLING CODE 4163-18-P